DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS) (last amended at 75 FR 14176-14178, dated March 24, 2010), is republished to realign functions in the Center for Program Integrity (CPI).

CPI is the focal point for all national and State-wide Medicare and Medicaid programs and integrity fraud and abuse issues related to the Children's Health Insurance Program (CHIP). It promotes the integrity of the Medicare and Medicaid programs and CHIP through provider/contractor audits, policy reviews, identification and monitoring of program vulnerabilities, and provides support and technical assistance to States. In addition, it recommends modifications to programs and operations as necessary and works with CMS Centers, Offices, and the Chief Operating Officer to affect changes as appropriate, and collaborates with the Office of Legislation on the development and advancement of new legislative initiatives and improvements to deter, reduce, and eliminate fraud, waste and abuse.

Part F, Section FC. 20 (Functions) is as follows:

Center for Program Integrity

• Serves as CMS' focal point for all national and State-wide Medicare and Medicaid programs and CHIP integrity fraud and abuse issues.

• Promotes the integrity of the Medicare and Medicaid programs and CHIP through provider/contractor audits and policy reviews, identification and monitoring of program vulnerabilities, and providing support and assistance to States. Recommends modifications to programs and operations as necessary and works with CMS Centers, Offices, and the Chief Operating Officer (COO) to affect changes as appropriate. Collaborates with the Office of Legislation on the development and advancement of new legislative initiatives and improvements to deter, reduce, and eliminate fraud, waste and abuse.

• Oversees all CMS interactions and collaboration with key stakeholders relating to program integrity (i.e., U.S. Department of Justice, DHHS Office of Inspector General, State law enforcement agencies, other Federal entities, CMS components) for the purposes of detecting, deterring, monitoring and combating fraud and abuse, as well as taking action against those that commit or participate in fraudulent or other unlawful activities.

• In collaboration with other CMS Centers, Offices, and the COO, develops and implements a comprehensive strategic plan, objectives and measures to carry out CMS' Medicare, Medicaid and CHIP program integrity mission and goals, and ensure program vulnerabilities are identified and resolved.

Authority: 44 U.S.C. 3101.

The Administrator of the Centers for Medicare & Medicaid Services (CMS), Seema Verma, having reviewed and approved this document, authorizes Lynette Wilson, who is the Federal Register Liaison, to electronically sign this document for purposes of publication in the Federal Register.

Dated: December 22, 2020.
Lynette Wilson,
Federal Register, Centers for Medicare & Medicaid Services.

[FR Doc. 2020-28795 Filed 12-28-20; 8:45 am]

BILLING CODE 4120-01-P